DEPARTMENT OF TRANSPORTATION

Federal Highway Administration

Uniform Relocation Assistance and Real Property Acquisition Policies Act Public Meeting

AGENCY: Federal Highway Administration (FHWA), DOT.

ACTION: Notice of public meeting.

SUMMARY: The Federal Highway Administration, as “Lead Federal Agency” for the Uniform Relocation Assistance and Real Property Action Policies Act (Uniform Act), will hold a series of listening sessions in Los Angeles, California; Washington, District of Columbia; Philadelphia, Pennsylvania; and Fort Worth, Texas.

The purpose of the listening sessions is to solicit comments on the need to update provisions of the Uniform Act and its implementing regulations 49 CFR Part 24. The Uniform Act provides for uniform and equitable treatment of persons displaced from their homes, business, or farms by Federal and federally assisted programs and establishes uniform and equitable land acquisition policies for Federal and federally assisted programs. The agenda for the listening sessions may be examined on the FHWA web site at the following address http://www.fhwa.dot.gov/realestate/ua.htm.

DATES: The Uniform Act listening sessions are scheduled from 10 am to 2 pm as follows:

June 14, 2002—Fort Worth, Texas

June 25, 2002—Los Angeles, California

June 27, 2002—Washington, District of Columbia

July 9, 2002—Philadelphia, Pennsylvania

ADDRESSES: For the June 14, 2002, session: 819 Taylor Street, Room 1A03, Fort Worth, TX 76102.

For the June 25, 2002, session: 300 North Los Angeles Street, Room 8529, Los Angeles, CA 90012.

For the June 27, 2002, session: U.S. Department of Transportation, 400 7th Street, SW., Room 3200, Washington, DC 20590.

For the July 9, 2002, session: The Wanamaker Building, 100 Penn Square East, Room 818, Philadelphia, PA 19107.

FOR FURTHER INFORMATION CONTACT: Persons needing further information should contact FHWA Office of Real Estate Services representatives Reginald Bessmer (202) 366-2037 or Ronald Fannin (202) 366-2042 or by FAX at (202) 366-3713, U.S. Department of Transportation, Federal Highway Administration, 400 Seventh Street, SW, Washington, DC 20590. Office hours are from 7:45 a.m. to 4:15 p.m., e.t., Monday through Friday, except Federal holidays.

SUPPLEMENTARY INFORMATION:

Electronic Access

An electronic copy of this document may be downloaded using a modem and suitable communications software from the Government Printing Office's Electronic Bulletin Board Service at (202) 512-1661. Internet users may reach the Office of the Federal Register's home page at http://www.nara.gov/fedreg and at the Government Printing Office's web page at http://www.access.gpo.gov/nara.

Authority: Pub. L. 91-646 as amended, 23 U.S.C. 315, 49 CFR 1.48.

Susan B. Lauffer,
Director, Office of Real Estate Services.

[FR Doc. 02-11925 Filed 5-13-02; 8:45 am]

BILLING CODE 4910-22-P